OFFICE OF MANAGEMENT AND BUDGET

2 CFR Part 200

Uniform Administrative Requirements, Cost Principles, and Audit Requirements for Federal Awards

CFR Correction

In Title 2 of the Code of Federal Regulations, revised as of January 1, 2015, on page 206, in Appendix III to Part 200, in section C.7, in the first sentence of the first paragraph, remove the phrase “, must paragraph (b)(1) for indirect (F&A) costs” and on page 219, in Appendix VII to Part 200, in section A.3, in the last sentence, remove the word “the” before “HHS Cost Allocation”.

[FR Doc. 2015-20044 Filed 8-13-15; 8:45 am]

BILLING CODE 1505-01-D